DEPARTMENT OF THE INTERIOR

National Park Service

Notice of Availability of a Draft Environmental Impact Statement for the Castillo de San Marcos National Monument General Management Plan

AGENCY: National Park Service, Interior.

ACTION: Notice.

SUMMARY: Pursuant to section 102(2) (C) of the National Environmental Policy Act of 1969 and National Park Service policy in Director's Order Number 2 (Park Planning) and Director's Order Number 12 (Conservation Planning, Environmental Impact Analysis, and Decision-making) the National Park Service announces the availability of a Draft Environmental Impact Statement/General Management Plan (DEIS/GMP) for the Castillo de San Marcos National Monument in St. Augustine, Florida. The authority for publishing this notice is contained in 40 CFR 1506.6.

The document provides a framework for management, use, and development options for the national monument by the National Park Service for the next 15-20 years. The document describes four management alternatives for consideration, including a no-action alternative that continues current management policies, and analyzes the environmental impacts of those alternatives. The Castillo de San Marcos National Monument is located on Matanzas Bay, adjacent to the historic district of St. Augustine, Florida.

DATES: There will be a 60-day comment period beginning with the Environmental Protection Agency's publication of its notice of availability in the Federal Register.

ADDRESSES: Copies of the DEIS are available by contacting the Park Superintendent at Castillo de San Marcos National Monument, 1 South Castillo Drive, St. Augustine, Florida 32084. An electronic copy of the DEIS is available on the Internet at http://parkplanning.nps.gov.

SUPPLEMENTARY INFORMATION: The National Park Service held public and stakeholder meetings and consulting party meetings as outlined in 36 CFR 800.3 to gather advice and feedback on desired outcomes for the future management of the Castillo de San Marcos National Monument. The meetings assisted the National Park Service in developing alternatives for managing the cultural and natural resources and for creating interpretive and educational programs. Responses from the meetings were incorporated into the alternatives described in the plan.

Following the public comment period, all comments will be available for public review during regular business hours. Our practice is to make comments, including names and home addresses of respondents, available for public review during regular business hours. Individual respondents may request that their name and/or home address be withheld from the rule-making record. The National Park Service will honor these requests to the extent allowed by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Gordie Wilson, (904) 829-6506, extension 221, or David Libman (404) 562-3124, extension 685.

The responsible official for this Environmental Impact Statement is Patricia A. Hooks, Regional Director, Southeast Region, National Park Service, 100 Alabama Street SW., 1924 Building, Atlanta, Georgia 30303.

Dated: July 18, 2005.
Patricia A. Hooks,
Regional Director, Southeast Region.

[FR Doc. 05-16081 Filed 8-12-05; 8:45 am]

BILLING CODE 4312-75-P